DEPARTMENT OF HOMELAND SECURITY

Office of the Secretary

[Docket No. DHS-2015-0062]

Privacy Act of 1974; Department of Homeland Security/ALL-008 Accounts Receivable System of Records

AGENCY: Department of Homeland Security, Privacy Office.

ACTION: Notice of Privacy Act system of records.

SUMMARY: In accordance with the Privacy Act of 1974, the Department of Homeland Security proposes to update and reissue a current Department of Homeland Security system of records titled “Department of Homeland Security/ALL-008 Accounts Receivable System of Records.” This system allows the Department of Homeland Security to collect and maintain payment records. As a result of a biennial review of this system, the Department of Homeland Security is updating this system of records notice to reflect an updated category of records, an additional system location, an updated routine use, and an updated retention schedule. Additionally, this notice includes non-substantive changes to simplify the formatting and text of the previously published notice.

DATES: Submit comments on or before October 28, 2015. This updated system will be effective October 28, 2015.

ADDRESSES: You may submit comments, identified by docket number DHS-2015-0062 by one of the following methods:

• Federal e-Rulemaking Portal: http://www.regulations.gov. Follow the instructions for submitting comments.

• Fax: 202-343-4010.

• Mail: Karen L. Neuman, Chief Privacy Officer, Privacy Office, Department of Homeland Security, Washington, DC 20528-0655.

Instructions: All submissions received must include the agency name and docket number for this rulemaking. All comments received will be posted without change to http://www.regulations.gov, including any personal information provided.

Docket: For access to the docket to read background documents or comments received, please visit http://www.regulations.gov.

FOR FURTHER INFORMATION CONTACT: For general and privacy questions please contact: Karen L. Neuman, (202) 343-1717, Chief Privacy Officer, Privacy Office, Department of Homeland Security, Washington, DC 20528-0655.

SUPPLEMENTARY INFORMATION:

I. Background

In accordance with the Privacy Act of 1974, 5 U.S.C. 552a, the Department of Homeland Security (DHS) proposes to update and reissue a current DHS system of records titled, “DHS/ALL-008 Accounts Receivable System of Records.” This system consists of both electronic and paper records that are used by DHS and its Components and offices to collect and maintain accounts receivable records. The collection and maintenance of accounts receivable information assists DHS in meeting its obligation to manage Departmental funds and ensures that the Department has an accurate accounting of all the money that it is owed. DHS is updating this SORN to provide notice that financial management activities for three DHS Components: Domestic and Nuclear Detection Office (DNDO), Transportation Security Administration (TSA), and the United States Coast Guard (USCG), are transferring their financial management services to the Department of Interior's (DOI) Oracle Federal Financials (OFF) Virtual Environment. OFF is an application owned by DOI that provides federal agencies with a web-based application that contains customizable financial management modules. When combined, the modules provide a comprehensive financial software package that supports budgeting, purchasing, federal procurement, accounts payable, fixed assets, general ledger, inventory, accounts receivable, reimbursement, reporting, and collection functions. Although DOI will host DHS information, DHS will retain control over its data. Individuals should request DHS records resident on the DOI system through DHS and DHS will review and if approve (as appropriate) all requests.

DHS is updating the category of records to include general contact information, such as phone numbers, FAX numbers, and email addresses in recognition that DHS may contact vendors or employees via other methods than standard mail. DHS is updating the system location to provide notice that DHS information will be maintained at DOI. DHS is updating routine use L by dividing the previous routine use into two, with routine use L to provide information to unions recognized as exclusive bargaining representatives and new routine use M which permits sharing with the Merit Systems Protection Board, arbitrators, the Federal Labors Relations Authority, Equal Employment Opportunity Commission (EEOC). DHS is adding the EEOC to the previously issued routine use for the purpose of processing any corrective actions, or grievances, or conducting administrative hearings or appeals, or if needed in the performance of other authorized duties. DHS is also updating routine use N (previously routine use M), which will allow DHS to share information with federal agencies that host shared financial services, such as DOI's web-based financial management application. DHS is updating the retention period to reflect the new General Records Schedule 1.1, which modified the retention period for financial transaction records from six years and three months to exactly six years. Additionally, this notice includes non-substantive changes to simplify the formatting and text of the previously published notice.

Consistent with DHS's information sharing mission, information stored in the DHS/ALL-008 Accounts Receivable may be shared with other DHS Components that have a need to know the information to carry out their national security, law enforcement, immigration, intelligence, or other homeland security functions. In addition, DHS may share information with appropriate federal, state, local, tribal, territorial, foreign, and international government agencies, members of the public, and other entities consistent with the routine uses set forth in this system of records notice.

This updated system will be included in DHS's inventory of record systems.

II. Privacy Act

The Privacy Act embodies fair information principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass United States citizens and lawful permanent residents. As a matter of policy, DHS extends administrative Privacy Act protections to all individuals when systems of records maintain information on U.S. citizens, lawful permanent residents, and visitors. Individuals may request access to their own records that are maintained in a system of records in the possession or under the control of DHS by complying with DHS Privacy Act regulations, 6 CFR part 5.

The Privacy Act requires that each agency publish in the Federal Register a description denoting the type and character of each system of records in order to make agency recordkeeping practices transparent, to notify individuals about the use of their records, and to assist the individual to more easily find files within the agency. Below is a description of the DHS/ALL-008 Accounts Receivable System of Records.

In accordance with 5 U.S.C. 552a(r), DHS has provided a report of this revised system of records to the Office of Management and Budget and to Congress.

System of Records:

Department of Homeland Security (DHS)/ALL-008.

System name:

DHS/ALL-008 Accounts Receivable Records.

Security classification:

Unclassified.

System location:

DHS maintains records at several Headquarters locations and in Component offices of DHS, in both Washington, DC and field locations. DHS also maintains records in the Department of Interior's (DOI) Oracle Federal Financials (OFF) Virtual Environment in Reston, VA and Denver, CO.

Categories of individuals covered by the system:

Any individual or organization that is indebted to DHS.

Categories of records in the system:

Categories of records in this system include:

• Individual's name;

• Tax identification number, which may be a Social Security number in certain instances;

• Addresses and other general contact information, such as phone numbers, FAX numbers, or email addresses;

• Waiver of Debt Letter of Appeal;

• Receipts;

• Notices of debts;

• Invoices;

• Record of payments, including refunds and overpayments;

• Number and amount of unpaid or overdue bills;

• Record of satisfaction of debt or referral for further action;

• Correspondence and documentation with debtors and creditors; and

• Electronic financial institution data.

Authority for maintenance of the system:

5 U.S.C. 301; 5 U.S.C. 5701 et seq., Travel, Transportation, and Subsistence; the Federal Records Act, 44 U.S.C. 3101; the Homeland Security Act of 2002, Public Law 107-296, 6 U.S.C. 121; 19 U.S.C. 1451; 31 U.S.C. 7701(c); the Chief Financial Officers Act of 1990, Pub. L. 101-576; 19 CFR 24.16 and 24.17; Executive Order 11348, as amended by Executive Order 12107; and Executive Order 9397, as amended by Executive Order 13478.

Purpose(s):

The purpose of this system is to collect and maintain records of debts owed to DHS.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the United States Attorneys, or other federal agency conducting litigation or in proceedings before any court, adjudicative, or administrative body when it is relevant or necessary to the litigation and one of the following is a party to the litigation or has an interest in such litigation:

1. DHS or any Component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To a federal, state, or local agency so that the agency may adjudicate an individual's eligibility for a benefit.

I. To the Department of Justice or other federal agency for further collection action on any delinquent debt when circumstances warrant.

J. To a debt collection agency for the purposes of debt collection.

K. To approved federal, state, and local government agencies for any legally mandated purpose in accordance with their authorizing statute or law and where an approved Memorandum of Agreement or Computer Matching Agreement (CMA) is in place between DHS and the entity.

L. To provide information to unions recognized as exclusive bargaining representatives under the Civil Service Reform Act of 1978, 5 U.S.C. 7111 and 7114.

M. To the Merit Systems Protection Board, arbitrators, the Federal Labors Relations Authority, Equal Employment Opportunity Commission and other parties responsible for the administration of the Federal Labor-Management Program for the purpose of processing any corrective actions, or grievances, or conducting administrative hearings or appeals, or if needed in the performance of other authorized duties.

N. To federal agencies who provide financial management services for DHS Components under a cross-servicing agreement for purposes such as budgeting, purchasing, procurement, reimbursement, reporting, and collection functions.

O. To the Government Accountability Accounting Office, Department of Justice, or a United States Attorney, copies of the Debt Collection Officer's file regarding the debt and actions taken to attempt to collect monies owed.

P. To the news media and the public, with the approval of the Chief Privacy Officer in consultation with counsel, when there exists a legitimate public interest in the disclosure of the information, when disclosure is necessary to preserve confidence in the integrity of DHS, when disclosure is necessary to demonstrate the accountability of DHS's officers, employees, or individuals covered by the system, except to the extent the Chief Privacy Officer determines that release of the specific information in the context of a particular case would constitute an unwarranted invasion of personal privacy.

Disclosure to consumer reporting agencies:

Yes, DHS may disclose, pursuant to 5 U.S.C. 552a(b)(12), to consumer reporting agencies in accordance with the provision of 15 U.S.C. 1681, et seq. or the Federal Claims Collection Act of 1966 as amended (31 U.S.C. 3701, et seq.). The purpose of this disclosure is to aid in the collection of outstanding debts owed to the Federal Government, typically, to provide an incentive for debtors to repay delinquent Federal Government debts by making these part of their credit records.

Disclosure of records is limited to the individual's name, address, TIN/SSN, and other information necessary to establish the individual's identity; the amount, status, and history of the claim; and the agency or program under which the claim arose. The disclosure will be made only after the procedural requirements of 31 U.S.C. 3711(e) have been followed.

Policies and practices for storing, retrieving, accessing, retaining, and disposing of records in the system:

Storage:

DHS stores records in this system electronically in multiple databases or on paper in secure facilities in a locked drawer behind a locked door. The records are stored on magnetic disc, tape, digital media, and CD-ROM.

Retrievability:

DHS retrieves data by an individual's name, tax identification number/Social Security number, employee identification number, or other personal identifier.

Safeguards:

DHS safeguards records in this system in accordance with applicable rules and policies, including all applicable DHS automated systems security and access policies. DHS has imposed strict controls to minimize the risk of compromising the information that is being stored. DHS limits access to the computer system containing the records to those individuals who have a need to know the information for the performance of their official duties and who have appropriate clearances or permissions.

Retention and disposal:

DHS destroys records six years after final payment or cancellation, in accordance with National Archives and Records Administration General Records Schedule 1.1, item 010.

System Manager and address:

The Chief Financial Officer, Department of Homeland Security, Washington, DC 20528.

Notification procedure:

Individuals seeking notification of and access to any record contained in this system of records, including DHS records hosted by another federal agency under a cross-servicing agreement for financial management services, or seeking to contest its content, may submit a request in writing to the Headquarters or Component's Freedom of Information Act (FOIA) Officer, whose contact information can be found at http://www.dhs.gov/foia-contact-information. If an individual believes more than one Component maintains Privacy Act records concerning him or her the individual may submit the request to the Chief Privacy Officer, Department of Homeland Security, 245 Murray Drive SW., Building 410, STOP-0655, Washington, DC 20528-0655.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy and FOIA Officer, http://www.dhs.gov/foia or 1-866-431-0486. In addition, you should:

• Explain why you believe the Department would have information on you;

• Identify which Component(s) of the Department you believe may have the information about you;

• Specify when you believe the records would have been created; and

• Provide any other information that will help the FOIA staff determine which DHS Component agency may have responsive records;

If your request is seeking records pertaining to another living individual, you must include a statement from that individual certifying his/her agreement for you to access his/her records.

Without the above information, the Component(s) may not be able to conduct an effective search, and your request may be denied due to lack of specificity or lack of compliance with applicable regulations.

Record access procedures:

See “Notification procedure” above.

Contesting record procedures:

See “Notification procedure” above.

Record Source Categories:

Information originates with DHS, its Components and offices, and individuals submitting supporting documentation for reimbursement.

Exemptions claimed for the system:

None.

Dated: September 18, 2015.
Karen L. Neuman,
Chief Privacy Officer, Department of Homeland Security.

[FR Doc. 2015-24588 Filed 9-25-15; 8:45 am]

BILLING CODE 9110-9B-P